EXPORT-IMPORT BANK OF THE U.S.

[Public Notice 123]

Agency Information Collection Activities: Final Collection; Comment Request

AGENCY: Export-Import Bank of the U.S.

ACTION: Submission for OMB Review and Comments Request.

Form Title: Application for Medium-Term Insurance or Guarantee (EIB 03-02).

SUMMARY: The Export-Import Bank of the United States (Ex-Im Bank), as a part of its continuing effort to reduce paperwork and respondent burden, invites the general public and other Federal Agencies to comment on the proposed information collection, as required by the Paperwork Reduction Act of 1995.

Our customers will be able to submit this form on paper or electronically. The information collected will be used to make a determination of eligibility under the Export Import Bank's medium-term insurance and guarantee programs.

DATES: Comments should be received on or before November 4, 2009 to be assured of consideration.

ADDRESSES: Direct all comments to: Office of Management and Budget, Office of Information and Regulatory Affairs, 725 17th Street, NW., Washington, DC 20038 OMB Number 3048-0014.

SUPPLEMENTARY INFORMATION:

Titles and Form Number: EIB 03-02. Medium Term Insurance or Guarantee Application.

OMB Number: 3048-0014.

Type of Review: Regular.

Need and Use: The information collected will be used to make a determination of eligibility under the Export Import Bank's medium-term insurance and guarantee program.

Affected Public: This form affects entities involved in the export of U.S. goods and services.

Annual Number of Respondents: 400.

Estimated Time per Respondent: 1.5 hours.

Government Annual Burden Hours: 300.

Frequency of Reporting or Use: As needed to request support for a medium-term export sale.

Sharon A. Whitt,
Agency Clearance Officer.

[FR Doc. E9-23880 Filed 10-2-09; 8:45 am]

BILLING CODE 6690-01-P